DEPARTMENT OF ENERGY

Federal Energy Regulatory Commission

[Project No. 2788-017]

Goodyear Lake Hydro, LLC; Notice of Settlement Agreement, Soliciting Comments, and Modification of Procedural Schedule

Take notice that the following settlement agreement has been filed with the Commission and is available for public inspection.

a. Type of Application: Offer of Settlement (Settlement).

b. Project No.: 2788-017.

c. Date filed: June 14, 2018.

d. Applicant: Goodyear Lake Hydro, LLC (Goodyear Lake Hydro).

e. Name of Project: Colliersville Hydroelectric Project.

f. Location: On the Susquehanna River, in the Town of Milford, Otsego County, New York. The project does not occupy lands of the United States.

g. Filed Pursuant to: Rule 602 of the Commission's Rules of Practice and Procedure, 18 CFR 385.602.

h. Applicant Contact: Mr. Kevin Webb, Hydro Licensing Manager; Enel Green Power North America, Inc., 100 Brickstone Square, Suite 300, Andover, MA 01810; (978) 935-6039; kevin.webb@enel.com.

i. FERC Contact: Emily Carter, (202) 502-6512 or emily.carter@ferc.gov.

j. Deadline for filing Comments: Comments on the Settlement, and comments, recommendations, preliminary terms and conditions, and preliminary fishway prescriptions in response to the Commission's April 16, 2018 Notice of Application Ready for Environmental Analysis (REA Notice) are due within 20 days from the issuance date of this notice. Reply comments are due within 65 days of the issuance date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2788-017.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Goodyear Lake Hydro filed the Settlement on behalf of itself, the United States Department of the Interior—Fish and Wildlife Service, the New York State Department of Environmental Conservation, and Susquehanna River Basin Commission. Goodyear Lake Hydro states that the goal of the Settlement is to provide for the continued operation of the Colliersville Project with the appropriate long-term environmental and recreation protection, enhancement, and mitigation measures that meet the diverse objectives of maintaining a balance of non-power and power values associated with the project. The Settlement provides for the resolution of operational, fisheries, wildlife, recreational, and water quality issues raised by the signatories to the Settlement. Goodyear Lake Hydro states that the agreements in the Settlement constitute an integrated and indivisible set of measures intended to address non-power and power values relating to the licensing of the Colliersville Project and requests that all terms of the Settlement be incorporated as license conditions, without modification, in any subsequent license issued for the project. The signatories to the Settlement also request a 40-year license term for the project. Lastly, the Settlement incorporates, by reference, a Northern Long-Eared Bat and Bald Eagle Protection Plan (Appendix A) and an Invasive Species Management Plan (Appendix B).

l. A copy of the Settlement is available for review at the Commission in the Public Reference Room or may be viewed on the Commission's website at http://www.ferc.gov using the eLibrary link. Enter the docket number, excluding the last three digits, in the docket number field to access the document. For assistance, contact FERC Online Support. Copies of the Settlement are also available for inspection and reproduction at the address in item h above.

All filings must (1) bear in all capital letters the title COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

Register online at http://www.ferc.gov/docs-filing/esubscription.asp to be notified via email of new filings and issuances related to this or other pending projects. For assistance, contact FERC Online Support.

m. Procedural Schedule: The Commission's April 16, 2018 REA Notice established June 15, 2018 as the deadline for filing comments, recommendations, preliminary terms and conditions, and preliminary fishway prescriptions regarding Goodyear Lake Hydro's license application. In order to allow adequate time for stakeholder comments regarding the license application and the Settlement, we have modified the comment period to allow stakeholders to submit comments on the Settlement and comments, recommendations, preliminary terms and conditions, and preliminary fishway prescriptions regarding the license application on the same date, and allow Goodyear Lake Hydro sufficient time to submit reply comments. The application will be processed according to the following revised Hydro Licensing Schedule. Revisions to the schedule may be made as appropriate. If the due date falls on a weekend or holiday, the due date is the following business day.

Milestone | Target date
Filing of comments, recommendations, preliminary terms and conditions, and preliminary fishway prescriptions (per the REA Notice) and comments on the Settlement | July 5, 2018.
Reply comments due | August 19, 2018.
Commission Issues EA | November 2018.
Comments on EA | December 2018.

Dated: June 15, 2018.
Kimberly D. Bose,
Secretary.

[FR Doc. 2018-13366 Filed 6-21-18; 8:45 am]

BILLING CODE 6717-01-P